DEPARTMENT OF HEALTH AND HUMAN SERVICES

Centers for Medicare & Medicaid Services

42 CFR Parts 409, 411, 413, 440, 483, 488, and 489

[CMS-1469-CN]

RIN 0938-AL90

Medicare Program; Prospective Payment System and Consolidated Billing for Skilled Nursing Facilities; Correction

Correction

In rule document 03-24549 beginning on page 55882 in the issue of Monday, September 29, 2003, make the following correction:

On page 55890, in the third column, Table 7 is being reprinted in part to read as follows:

Table 7.—Wage Index for Urban Areas—Continued
Urban area (constituent counties or county equivalents) | Wage index
* * * | * *
1150 Bremerton, WA | 1.0580
Kitsap, WA
* * * | * *

[FR Doc. C3-24549 Filed 10-9-03; 8:45 am]

BILLING CODE 1505-01-D